DEPARTMENT OF AGRICULTURE

Submission for OMB Review; Comment Request

May 4, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received by June 8, 2015. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Grain Inspection, Packers and Stockyard Administration

Title: Export Inspection and Weighing Waiver for High Quality Specialty Grains Transported in Containers.

OMB Control Number: 0580-0022.

Summary of Collection: The United States Grain Standards Act, as amended (7 U.S.C. 71-87) (USGSA), with few exceptions, requires that all grain shipped from the United States must be officially inspected and weighed. The Grain Inspection, Packers and Stockyards Administration (GIPSA) amended section 7 CFR 800.18 of the regulations to waive the mandatory inspection and weighing requirements of the USGSA for high quality specialty grain exported in containers. GIPSA established this waiver to facilitate the marketing of high quality specialty grain exported in containers.

Need and Use of the Information: To comply with the waiver of the mandatory inspection and weighing requirements, GIPSA requires exporters of high quality specialty grain to maintain records generated during the normal course of business that pertain to these shipments and make these documents available to GIPSA upon request for review or copying purposes. These records are maintained for a period of 3 years. This requirement is essential to ensure exporters of high quality specialty grain in containers comply with the waiver requirements.

Description of Respondents: Business or other for-profit.

Number of Respondents: 40.

Frequency of Responses: Recordkeeping.

Total Burden Hours: 240.

Charlene Parker,
Departmental Information Collection Clearance Officer.

[FR Doc. 2015-11096 Filed 5-7-15; 8:45 am]

BILLING CODE 3410-KD-P